DEPARTMENT OF LABOR

Employment and Training Administration

[TA-W-65,432]

Gmark Industries, McAllen, TX; Notice of Termination of Investigation

Pursuant to Section 221 of the Trade Act of 1974, as amended, an investigation was initiated on February 27, 2009 in response to a petition filed by a company official on behalf of the workers of Gmark Industries, McAllen, Texas.

The petitioner requested that the petition be withdrawn. Consequently, the investigation has been terminated.

Signed at Washington, DC, this 27th day of March 2009.
Richard Church,
Certifying Officer, Division of Trade Adjustment Assistance.

[FR Doc. E9-8931 Filed 4-17-09; 8:45 am]

BILLING CODE 4510-FN-P